DEPARTMENT OF TRANSPORTATION

Federal Aviation Administration

14 CFR Part 39

[Docket No. FAA-2005-20688; Directorate Identifier 2004-NM-165-AD]

RIN 2120-AA64

Airworthiness Directives; Boeing Model 757-200 and -300 Series Airplanes

AGENCY: Federal Aviation Administration (FAA), Department of Transportation (DOT).

ACTION: Notice of proposed rulemaking (NPRM).

SUMMARY: The FAA proposes to adopt a new airworthiness directive (AD) for certain Boeing Model 757-200 and -300 series airplanes. This proposed AD would require replacing certain electrical panels with certain new panels. This proposed AD is prompted by a report of some loose wire terminations in the P50 panel that caused intermittent indications in the flight deck. We are proposing this AD to prevent intermittent indications in the flight deck, incorrect circuitry operation in the panels, and airplane system malfunctions that may adversely affect the alternate flaps, alternate gear extension, and fire extinguishing.

DATES: We must receive comments on this proposed AD by May 9, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Boeing Commercial Airplanes, P.O. Box 3707, Seattle, Washington 98124-2207.

You can examine the contents of this AD docket on the Internet at http://dms.dot.gov, or in person at the Docket Management Facility, U.S. Department of Transportation, 400 Seventh Street SW., room PL-401, on the plaza level of the Nassif Building, Washington, DC. This docket number is FAA-2005-20688; the directorate identifier for this docket is 2004-NM-165-AD.

FOR FURTHER INFORMATION CONTACT: Louie Natsiopoulos, Aerospace Engineer, Systems and Equipment Branch, ANM-130S, FAA, Seattle Aircraft Certification Office, 1601 Lind Avenue, SW., Renton, Washington 98055-4056; telephone (425) 917-6478; fax (425) 917-6590.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2005-99999.” The Transport Airplane Directorate identifier is in the form “Directorate Identifier 2004-NM-999-AD.” Each DMS AD docket also lists the directorate identifier (“Old Docket Number”) as a cross-reference for searching purposes.

Comments Invited

We invite you to submit any relevant written data, views, or arguments regarding this proposed AD. Send your comments to an address listed under ADDRESSES. Include “Docket No. FAA-2005-20688; Directorate Identifier 2004-NM-165-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that website, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

We have received a report indicating that, during flight test operations of a Boeing Model 757-300 series airplane before its delivery, the P50 panel was found to have some loose wire terminations that caused intermittent indications in the flight deck. As a result, the P50 panel was replaced. Other panels thought to have the same condition were inspected and repaired as necessary. A subsequent investigation of the problem showed that the component supplier did not follow the correct crimping, assembly, and test procedures when the components were made. Some terminal block modules were found to contain pins that were not fully seated and locked. Also, some wire terminations were found not sufficiently crimped, which lets the wires be easily pulled form the pins. These incorrect procedures were done on the P1-1, P1-3, P3-1, P3-3, P50, P51, and P54 panels. Loose wire terminations or the incorrect assembly of contacts in the panels, if not corrected, could result in intermittent indications in the flight deck, incorrect circuitry operation in the panels, and airplane system malfunctions that may adversely affect the alternate flaps, alternate gear extension, and fire extinguishing .

The P1-1, P1-3, P3-1, P3-3, P50, P51, and P54 panels on certain Model 757-200 series airplanes are identical to those on the affected Model 757-300 series airplanes. Therefore, all of these models may be subject to the same unsafe condition.

Relevant Service Information

We have reviewed the service bulletins in the following table:

Service Bulletins
For Boeing Model— | Boeing Special Attention Service Bulletin—
757-200 series airplanes | 757-24-0092, dated January 9, 2003.
757-300 series airplanes | 757-24-0095, dated January 9, 2003.

The service bulletins describe procedures for replacing certain electrical panels with certain new panels. Accomplishing the actions specified in the service information is intended to adequately address the unsafe condition.

FAA's Determination and Requirements of the Proposed AD

We have evaluated all pertinent information and identified an unsafe condition that is likely to exist or develop on other airplanes of this same type design. Therefore, we are proposing this AD, which would require accomplishing the actions specified in the service information described previously.

Costs of Compliance

There are about 19 airplanes of the affected design in the worldwide fleet. This proposed AD would affect about 13 airplanes of U.S. registry. The proposed actions would take about 12 work hours per airplane, at an average labor rate of $65 per work hour. Required parts would cost about $252,834 per airplane. Based on these figures, the estimated cost of the proposed AD for U.S. operators is $3,296,982, or $253,614 per airplane. However, we have confirmed with the airplane manufacturer that warranty remedies may be available for all affected airplanes. The manufacturer may cover the cost of replacement parts and labor costs associated with this proposed AD, subject to warranty conditions. As a result, the costs attributable to the proposed AD may be less than stated above.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Boeing: Docket No. FAA-2005-20688; Directorate Identifier 2004-NM-165-AD.

Comments Due Date

(a) The Federal Aviation Administration (FAA) must receive comments on this AD action by May 9, 2005.

Affected ADs

(b) None.

Applicability

(c) This AD applies to airplanes listed in Table 1 of this AD, certificated in any category.

Table 1.—Applicability
Boeing Model— | As listed in Boeing Special Attention Service Bulletin—
(1) 757-200 series airplanes | 757-24-0092, dated January 9, 2003.
(2) 757-300 series airplanes | 757-24-0095, dated January 9, 2003.

Unsafe Condition

(d) This AD was prompted by a report of some loose wire terminations in the P50 panel that caused intermittent indications in the flight deck. We are issuing this AD to prevent intermittent indications in the flight deck, incorrect circuitry operation in the panels, and airplane system malfunctions that may adversely affect the alternate flaps, alternate gear extension, and fire extinguishing.

Compliance

(e) You are responsible for having the actions required by this AD performed within the compliance times specified, unless the actions have already been done.

Replacements

(f) Within 24 months after the effective date of this AD, replace the P1-1, P1-3, P3-1, P3-3, P50, P51, and P54 panels with new P1-1, P1-3, P3-1, P3-3, P50, P51, and P54 panels, in accordance with the Accomplishment Instructions of the applicable service bulletin listed in Table 1 of this AD.

Alternative Methods of Compliance (AMOCs)

(g) The Manager, Seattle Aircraft Certification Office (ACO), FAA, has the authority to approve AMOCs for this AD, if requested in accordance with the procedures found in 14 CFR 39.19.

Issued in Renton, Washington, on March 14, 2005.
Ali Bahrami,
Manager, Transport Airplane Directorate, Aircraft Certification Service.

[FR Doc. 05-5697 Filed 3-22-05; 8:45 am]

BILLING CODE 4910-13-P